DEPARTMENT OF ENERGY

Federal Energy Regulatory Commission

Combined Notice of Filings

Take notice that the Commission has received the following Natural Gas Pipeline Rate and Refund Report filings:

Docket Numbers: RP20-308-000.

Applicants: NEXUS Gas Transmission, LLC.

Description: § 4(d) Rate Filing: Negotiated Rate—BP Canada 860363 eff 12-3-2019 to be effective 12/3/2019

Filed Date: 12/3/19

Accession Number: 20191203-5001

Comments Due: 5 p.m. ET 12/16/19

Docket Numbers: RP20-309-000

Applicants: Northwest Pipeline LLC

Description: § 4(d) Rate Filing: Miscellaneous and Housekeeping Filing—Fall 2019 to be effective 12/20/2019

Filed Date: 12/3/19

Accession Number: 20191203-5038

Comments Due: 5 p.m. ET 12/16/19

Docket Numbers: RP20-310-000

Applicants: Rockies Express Pipeline LLC

Description: § 4(d) Rate Filing: RP20-198 Clean-Up filing to be effective 11/1/2019

Filed Date: 12/3/19

Accession Number: 20191203-5112

Comments Due: 5 p.m. ET 12/16/19

Docket Numbers: RP20-311-000

Applicants: Gulf South Pipeline Company, LP

Description: Compliance filing Compliance Tariff Filing (CP19-490) re Gulf Crossing Acquisition to be effective 1/1/2020

Filed Date: 12/3/19

Accession Number: 20191203-5127

Comments Due: 5 p.m. ET 12/16/19

Docket Numbers: RP20-312-000

Applicants: Gulf South Pipeline Company, LP

Description: § 4(d) Rate Filing: Gulf South-Gulf Crossing Acquisition Neg Rate & NC Agmts Filing to be effective 1/1/2020

Filed Date: 12/3/19

Accession Number: 20191203-5130

Comments Due: 5 p.m. ET 12/16/19

Docket Numbers: RP20-313-000

Applicants: Gulf Crossing Pipeline Company LLC

Description: Tariff Cancellation: Cancel Tariff to be effective 1/1/2020

Filed Date: 12/3/19

Accession Number: 20191203-5138

Comments Due: 5 p.m. ET 12/16/19

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 4, 2019.
Nathaniel J. Davis, Sr.,
Deputy Secretary.

[FR Doc. 2019-26525 Filed 12-9-19; 8:45 am]

BILLING CODE 6717-01-P